DEPARTMENT OF TRANSPORTATION

Surface Transportation Board

[STB Finance Docket No. 34333]

Union Pacific Railroad Company—Trackage Rights Exemption—The Burlington Northern and Santa Fe Railway Company

The Burlington Northern and Santa Fe Railway Company (BNSF) has agreed to grant temporary overhead trackage rights to Union Pacific Railroad Company (UP) over BNSF's rail lines between BNSF milepost 141.7 near Rockview, MO, and BNSF milepost 422.2 near Jonesboro, AR, a distance of approximately 181.6 miles.¹

¹ The milepost numbers do not reflect the actual length of the BNSF line segment, because the trackage includes portions of two BNSF subdivisions that have noncontiguous milepost designations.

The parties intended to consummate the transaction on April 16, 2003; however, the earliest the transaction could have been consummated was April 21, 2003, the effective date of the exemption.² The temporary trackage rights will allow UP to facilitate maintenance work on its lines.³

² Under 49 CFR 1180.4(g), a railroad must file a verified notice of the transaction with the Board at least one week in advance of consummation, in order to qualify for an exemption under 49 CFR 1180.2(d). In this case, the verified notice was filed on April 14, 2003. By letter dated April 17, 2003, counsel for UP acknowledged that the transaction could not be consummated until April 21, 2003.

³ On April 14, 2003, UP concurrently filed a petition for partial revocation of the trackage rights class exemption in STB Finance Docket No. 34333 (Sub-No. 1), Union Pacific Railroad Company—Trackage Rights Exemption—The Burlington Northern and Santa Fe Railway Company. In its petition, UP requests that the Board permit the proposed overhead trackage rights arrangement described in this notice to expire on or about May 10, 2003, when maintenance work is scheduled to be completed. The petition for partial revocation will be addressed by the Board in a separate decision.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Docket No. 34333, must be filed with the Surface Transportation Board, 1925 K Street, NW., Washington, DC 20423-0001. In addition, a copy of each pleading must be served on T. Christopher Lewis, 1416 Dodge Street, Room 830, Omaha, NE 68179.

Board decisions and notices are available on our Web site at http://www.stb.dot.gov.

Decided: April 25, 2003.
By the Board, David M. Konschnik, Director, Office of Proceedings.
Vernon A. Williams,
Secretary.

[FR Doc. 03-10874 Filed 5-1-03; 8:45 am]

BILLING CODE 4915-01-P